FEDERAL COMMUNICATIONS COMMISSION

Notice of Public Information Collection(s) Being Reviewed by the Federal Communications Commission, Comments Requested

June 24, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before August 30, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, OMD, 202-418-0214 or email judith-b.herman@fcc.gov.

SUPPLEMENTARY INFORMATION: OMB Control Number: 3060-1140.

Title: Requests for Waiver of Various Petitioners to Allow the Establishment of 700 MHz Interoperable Public Safety Wireless Broadband Networks.

Form No.: N/A.

Type of Review: Extension of a currently approved collection.

Respondents: State, local or tribal government.

Number of Respondents and Responses: 50 respondents; 200 responses.

Estimated Time Per Response: 1 hour - 200 hours.

Frequency of Response: On occasion, quarterly and one time reporting requirements.

Obligation to Respond: Required to obtain or retain benefits. Statutory authority for this information collection is contained in 47 U.S.C. sections 151, 154, 301, 303, 332 and 337.

Total Annual Burden: 18,250 hours.

Total Annual Cost: N/A.

Privacy Act Impact Assessment: N/A.

Nature and Extent of Confidentiality: There is no need for confidentiality.

Needs and Uses: In the Order in PS Docket No. 06-229, FCC 10-79, the Commission grants, with conditions, 21 waiver petitions filed by public safety entities (“Petitioners”) seeking early deployment of statewide or local public safety broadband networks in the 700 MHz spectrum. This waiver serves the public interest by allowing state and local jurisdictions to begin broadband deployment and speed services to the public safety community. This will also allow the Petitioners to take advantage of available or potential funding, either through grants or planned budgetary expenditures, as well as to take advantage of economies of scale and other cost saving measures for deployments that are already planned. In addition, Petitioners could benefit from the announced plans of some commercial carriers to begin construction of LTE-based networks this year and early next year, which would result in significant cost-savings. On May 21, 2010, the Commission's Public Safety and Homeland Security Bureau released a Public Notice providing further guidance on the requirements set forth in the Order.

One of the conditions for such waiver is the submission of interoperability plans to the Commission's Emergency Response Interoperability Center (“ERIC”). The Commission recently decided to establish ERIC to promote appropriate technical requirements that will ensure interoperability for these early deployments from their inception, as well as for any future deployed networks. Given the rapidly evolving nature of 3GPP deployments and standards, submission of the Petitioners' interoperability plans will help ensure interoperability and roaming among these early deployments.

Another condition of waiver is certification by Petitioners that their vendors are participating actively in the PSCR/DC Demonstration Network which will provide an open platform for development and testing of public safety 700 MHz LTE broadband equipment. This is important to ensure that, early in the deployment stage, new broadband equipment is being developed to support the network meets public safety's use expectations, will work in a multivendor environment, and allows for roaming across multiple networks.

We also require each Petitioner to enter into a de facto spectrum lease with the Public Safety Spectrum Trust (“PSST”) in accordance with the terms and conditions of the Order. These leases must be submitted for approval by the Commission's Chief of the Public Safety and Homeland Security Bureau within 60 days of approval by OMB.

We also require each Petitioner, before deployment, to coordinate and address interference mitigation needs without any adjacent or bordering jurisdictions that also plan deployment, memorialize these agreements in writing, and submit them to ERIC within 30 days of their completion. Similarly, we require that parties provide ERIC with notice of any changes or updates within 30 days.

In light of the novel nature of these deployments and the ongoing standards and equipment development for LTE, we emphasize that diligent pursuit of deployment is expected. In this respect, we also require Petitioners to file, in consultation with the PSST, 30 days after approval by OMB and quarterly thereafter, status reports with the Commission's Public Safety and Homeland Security Bureau addressing the Petitioners' progress in three areas: 1) planning; 2) funding; and 3) deployment.

The Commission requested emergency OMB approval on June 1, 2010 for this new information collection. We received OMB approval on June 18, 2010. Emergency OMB approvals are only granted for six months. Therefore, the Commission is now required to conduct all the regular submission processes when seeking the three year clearance from OMB. We are now requesting an extension (no change in the reporting requirements). There is no change in the Commission's burden estimates.

Federal Communications Commission.
Marlene H. Dortch,
Secretary,
Office of the Secretary,
Office of Managing Director.

[FR Doc. 2010-15788 Filed 6-29-10; 8:45 am]

BILLING CODE 6712-01-S